OFFICE OF THE UNITED STATES TRADE REPRESENTATIVE

Notice of Meeting of the Industry Trade Advisory Committee on Small and Minority Business (ITAC-11)

AGENCY: Office of the United States Trade Representative.

ACTION: Notice of an opened meeting.

SUMMARY: The Industry Trade Advisory Committee on Small and Minority Business (ITAC-11) will hold a meeting on Wednesday, October 12, 2011, from 9 a.m. to 4 p.m. The meeting will be opened to the public from 2:30 p.m. to 4 p.m.

DATES: The meeting is scheduled for October 12, 2011, unless otherwise notified.

ADDRESSES: The meeting will be held at the Ronald Reagan International Trade Center, Training Room A, Washington, DC.

FOR FURTHER INFORMATION CONTACT: Laura Hellstern, DFO for ITAC-11 at (202) 482-3222, Department of Commerce, 14th Street and Constitution Avenue, NW., Washington, DC 20230.

SUPPLEMENTARY INFORMATION: The Agenda topics to be discussed are:

—Small Business Export Finance Update.

—Trans-Atlantic Business Dialogue Activities.

—U.S. Commercial Service National Export Initiatives (NEI) Update.

Carlos H. Romero,
Assistant U.S. Trade Representative for Intergovernmental Affairs and Public Engagement.

[FR Doc. 2011-25031 Filed 9-28-11; 8:45 am]

BILLING CODE 3190-W1-P